DEPARTMENT OF ENERGY

Federal Energy Regulatory Commission

Combined Notice of Filings #1

Take notice that the Commission received the following electric corporate filings:

Docket Numbers: EC14-78-000.

Applicants: NRG Energy, Inc, NRG Yield, Inc.

Description: Application for Blanket Authorization Under Section 203 of the Federal Power Act of NRG Energy, Inc.

Filed Date: 4/18/14.

Accession Number: 20140418-5195.

Comments Due: 5 p.m. ET 5/9/14.

Take notice that the Commission received the following electric rate filings:

Docket Numbers: ER10-2354-002.

Applicants: Midway-Sunset Cogeneration Company.

Description: Supplement to March 31, 2013 Notice of Change of Status of Midway Sunset Cogeneration Company.

Filed Date: 4/21/14.

Accession Number: 20140421-5171.

Comments Due: 5 p.m. ET 5/12/14.

Docket Numbers: ER11-4267-007; ER11-4270-007; ER11-4269-008; ER11-4268-007; ER11-113-008; ER10-2682-007; ER12-1680-005; ER11-4694-004.

Applicants: Algonquin Energy Services Inc., Algonquin Power Windsor Locks, LLC, Algonquin Tinker Gen Co., Algonquin Northern Maine Gen Co., Sandy Ridge Wind, LLC, Granite State Electric Company, Minonk Wind, LLC,GSG 6, LLC.

Description: Second supplement to December 31, 2013 Triennial Market Power Update for the Northeast Region of the APUC Entities.

Filed Date: 4/15/14.

Accession Number: 20140415-5047.

Comments Due: 5 p.m. ET 5/6/14.

Docket Numbers: ER14-375-001.

Applicants: ISO New England Inc.

Description: OATT Order No. 764 Compliance Filing to be effective 11/13/2013.

Filed Date: 4/21/14.

Accession Number: 20140421-5150.

Comments Due: 5 p.m. ET 5/12/14.

Docket Numbers: ER14-495-001.

Applicants: California Independent System Operator Corporation.

Description: Order 764 Compliance Filing Docket No. ER14-795 to be effective 5/1/2014.

Filed Date: 4/21/14.

Accession Number: 20140421-5144.

Comments Due: 5 p.m. ET 5/12/14.

Docket Numbers: ER14-1363-001; ER10-3195-002; ER10-3194-002.

Applicants: Kendall Green Energy LLC, MATEP Limited Partnership, MATEP LLC.

Description: Second Substitute Appendix B to February 28, 2014 Notice of Change in Status of Kendall Green Energy LLC, et. al.

Filed Date: 4/14/14.

Accession Number: 20140414-5272.

Comments Due: 5 p.m. ET 5/5/14.

Docket Numbers: ER14-1743-000.

Applicants: Southwest Power Pool, Inc.

Description: 1839R2 City of Osage City, Kansas NITSA and NOA Cancellation to be effective 1/1/2014.

Filed Date: 4/18/14.

Accession Number: 20140418-5185.

Comments Due: 5 p.m. ET 5/9/14.

Docket Numbers: ER14-1744-000.

Applicants: Southwest Power Pool, Inc.

Description: 1896R2 Westar Energy, Inc. NITSA and NOA Notice of Cancellation to be effective 1/1/2014.

Filed Date: 4/18/14.

Accession Number: 20140418-5186.

Comments Due: 5 p.m. ET 5/9/14.

Docket Numbers: ER14-1745-000.

Applicants: Cross Border Energy LLC.

Description: Notice of Cancellation to be effective 4/21/2014.

Filed Date: 4/18/14.

Accession Number: 20140418-5197.

Comments Due: 5 p.m. ET 5/9/14.

Docket Numbers: ER14-1746-000.

Applicants: ISO New England Inc.

Description: Tariff Revisions To Attachment E to be effective 6/21/2014.

Filed Date: 4/21/14.

Accession Number: 20140421-5142.

Comments Due: 5 p.m. ET 5/12/14.

Docket Numbers: ER14-1747-000.

Applicants: Inertia Power II, LLC.

Description: Initial Filing to be effective 4/25/2014.

Filed Date: 4/21/14.

Accession Number: 20140421-5208.

Comments Due: 5 p.m. ET 5/12/14.

Docket Numbers: ER14-1748-000.

Applicants: Midcontinent Independent System Operator, Inc.

Description: 2014-04-21 Elimination of Funds Trust Agreement to be effective 6/1/2014.

Filed Date: 4/21/14.

Accession Number: 20140421-5214.

Comments Due: 5 p.m. ET 5/12/14.

Docket Numbers: ER14-1749-000.

Applicants: Midcontinent Independent System Operator, Inc.

Description: 2014-04-21 Elimination of Trust Funds Filing to be effective 6/1/2014.

Filed Date: 4/21/14.

Accession Number: 20140421-5215.

Comments Due: 5 p.m. ET 5/12/14.

Take notice that the Commission received the following electric securities filings:

Docket Numbers: ES14-36-000.

Applicants: NSTAR Electric Company.

Description: Application of NSTAR Electric Company for Authority to Issue Short-Term Debt Securities.

Filed Date: 4/18/14.

Accession Number: 20140418-5229.

Comments Due: 5 p.m. ET 5/9/14.

Take notice that the Commission received the following open access transmission tariff filings:

Docket Numbers: OA08-5-005; ER14-596-001.

Applicants: Southwest Power Pool, Inc.

Description: Annual Compliance Report Regarding Penalties for Unreserved Use of Southwest Power Pool, Inc.

Filed Date: 4/18/14.

Accession Number: 20140418-5230.

Comments Due: 5 p.m. ET 5/9/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 21, 2014.
Nathaniel J. Davis, Sr.,
Deputy Secretary.

[FR Doc. 2014-09599 Filed 4-25-14; 8:45 am]

BILLING CODE 6717-01-P